DEPARTMENT OF TRANSPORTATION

Federal Motor Carrier Safety Administration

[Docket No. FMCSA-2017-0006]

Agency Information Collection Activities; Reinstatement of an Information Collection: Practices of Household Goods Brokers; Correction

AGENCY: Federal Motor Carrier Safety Administration (FMCSA), DOT.

ACTION: Notice and request for comments; correction.

SUMMARY: This document makes a correction to a notice published in the Federal Register on August 16, 2014, regarding the reinstatement of an Information Collection Request for the Practices of Household Goods Brokers. The correction involves the inclusion of a citation and clarification in the explanation of the reduction of burden hours.

FOR FURTHER INFORMATION CONTACT: Monique Riddick, Commercial Enforcement and Investigations Division, U.S. Department of Transportation, Federal Motor Carrier Safety Administration, West Building 6th Floor, 1200 New Jersey Avenue SE., Washington, DC 20590-0001. Telephone: 202-366-8045; email monique.riddick@dot.gov.

SUPPLEMENTARY INFORMATION: For FMCSA's notice published on August 16, 2017, (82 FR 38989), the following corrections are made:

In column three of page 38988, in the Summary paragraph, the last sentence should read “The reinstatement of this ICR is necessary to support FMCSA's responsibility to ensure consumer protection in the transportation of household goods (HHG).”

In column one of page 38989, add the following sentence to be the first sentence in the BACKGROUND section: “The reinstatement of this ICR is necessary to support the requirements of subpart B of 49 CFR part 371 and FMCSA's responsibility to ensure consumer protection in the transportation of household goods (HHG).”

In column two of page 38989, the paragraph that begins “With this renewal” should read: With this renewal, FMCSA makes a change to the annual burden hours associated with this ICR. There is a reduction of 19,522 annual burden hours due to the removal of 1,000 burden-hours associated with new entrant household goods brokers setting up a separate accounting system to comply with 49 CFR 371.13. FMCSA no longer believes the inclusion of such burden hours is necessary as such usual and customary actions to comply with regulatory requirements do not need to be included in burden calculations. Further, the number of burden hours is reduced due to a reduced estimate of the number of HHG brokers that are impacted by this information collection.

Issued on: September 27, 2017.
Kelly Regal,
Associate Administrator, Office of Research and Information Technology.

[FR Doc. 2017-21454 Filed 10-4-17; 8:45 am]

BILLING CODE 4910-EX-P